SUSQUEHANNA RIVER BASIN COMMISSION

Projects Rescinded for Consumptive Uses of Water

AGENCY: Susquehanna River Basin Commission.

ACTION: Notice.

SUMMARY: This notice lists the projects rescinded by the Susquehanna River Basin Commission during the period set forth in DATES.

DATES: July 1, 2012, through August 31, 2012.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, being rescinded for the consumptive use of water pursuant to the Commission's approval by rule process set forth in 18 CFR 806.22(f) for the time period specified above:

Approvals by Rule Rescissions Under 18 CFR 806.22(f)

1. Gastem USA, Inc., Pad ID: Sheckells 1, ABR-201007044, Cherry Valley Town, Otsego County, NY; Rescind Date: July 5, 2012.

2. Covalent Energy, Inc., Pad ID: Ross 1, ABR-20090818, Maryland Town, Otsego County, NY; Rescind Date: July 5, 2012.

3. EOG Resources, Inc., Pad ID: Beardslee 1V, ABR-201008084, Springfield Township, Bradford County, Pa.; Rescind Date: August 28, 2012.

4. EOG Resources, Inc., Pad ID: BEARDSLEE 2H Pad, ABR-201008085, Springfield Township, Bradford County, Pa.; Rescind Date: August 28, 2012.

5. EOG Resources, Inc., Pad ID: CASEMAN 1H, ABR-201008103, Springfield Township, Bradford County, Pa.; Rescind Date: August 28, 2012.

6. EOG Resources, Inc., Pad ID: CASEMAN 2H, ABR-201008104, Springfield Township, Bradford County, Pa.; Rescind Date: August 28, 2012.

7. EOG Resources, Inc., Pad ID: Chapman Pad, ABR-201008125, Springfield Township, Bradford County, Pa.; Rescind Date: August 28, 2012.

8. EOG Resources, Inc., Pad ID: COP Pad A, ABR-20100531, Lawrence Township, Clearfield County, Pa.; Rescind Date: August 28, 2012.

9. EOG Resources, Inc., Pad ID: COP Pad B, ABR-20100645, Lawrence Township, Clearfield County, Pa.; Rescind Date: August 28, 2012.

10. EOG Resources, Inc., Pad ID: COP Pad C, ABR-201008027, Lawrence Township, Clearfield County, Pa.; Rescind Date: August 28, 2012.

11. EOG Resources, Inc., Pad ID: COP Pad J, ABR-201009022, Lawrence Township, Clearfield County, Pa.; Rescind Date: August 28, 2012.

12. EOG Resources, Inc., Pad ID: COP Pad N, ABR-201103001, Lawrence Township, Clearfield County, Pa.; Rescind Date: August 28, 2012.

13. EOG Resources, Inc., Pad ID: COP Pad O, ABR-201103030, Lawrence Township, Clearfield County, Pa.; Rescind Date: August 28, 2012.

14. EOG Resources, Inc., Pad ID: Dodge Pad, ABR-201008086, Springfield Township, Bradford County, Pa.; Rescind Date: August 28, 2012.

15. EOG Resources, Inc., Pad ID: Furman Pad, ABR-201008093, Springfield Township, Bradford County, Pa.; Rescind Date: August 28, 2012.

16. EOG Resources, Inc., Pad ID: GARVER Pad, ABR-201008053, Ridgebury Township, Bradford County, Pa.; Rescind Date: August 28, 2012.

17. EOG Resources, Inc., Pad ID: GEROULD Pad, ABR-201008109, Ridgebury Township, Bradford County, Pa.; Rescind Date: August 28, 2012.

18. EOG Resources, Inc., Pad ID: HALSTEAD Pad, ABR-201009060, Ridgebury Township, Bradford County, Pa.; Rescind Date: August 28, 2012.

19. EOG Resources, Inc., Pad ID: HOPPAUGH 1V, ABR-20091119, Springfield Township, Bradford County, Pa.; Rescind Date: August 28, 2012.

20. EOG Resources, Inc., Pad ID: Houseknecht 1H Pad, ABR-20090423.1, Springfield Township, Bradford County, Pa.; Rescind Date: August 28, 2012.

21. EOG Resources, Inc., Pad ID: Houseknecht 2H Pad, ABR-20090419, Springfield Township, Bradford County, Pa.; Rescind Date: August 28, 2012.

22. EOG Resources, Inc., Pad ID: Houseknecht 3H Pad, ABR-20090422, Springfield Township, Bradford County, Pa.; Rescind Date: August 28, 2012.

23. EOG Resources, Inc., Pad ID: JACKSON 1H Pad, ABR-20090053, Springfield Township, Bradford County, Pa.; Rescind Date: August 28, 2012.

24. EOG Resources, Inc., Pad ID: JBR PARTNERS 1V, ABR-20100555, Saint Marys City, Elk County, Pa.; Rescind Date: August 28, 2012.

25. EOG Resources, Inc., Pad ID: JOHNSON Pad, ABR-201008100, Ridgebury Township, Bradford County, Pa.; Rescind Date: August 28, 2012.

26. EOG Resources, Inc., Pad ID: JONES 1V, ABR-20091203, Springfield Township, Bradford County, Pa.; Rescind Date: August 28, 2012.

27. EOG Resources, Inc., Pad ID: KENYON 1V, ABR-20091235, Springfield Township, Bradford County, Pa.; Rescind Date: August 28, 2012.

28. EOG Resources, Inc., Pad ID: KINGSLEY 5H, ABR-201008080, Springfield Township, Bradford County, Pa.; Rescind Date: August 28, 2012.

29. EOG Resources, Inc., Pad ID: KINGSLEY 6H, ABR-201008081, Springfield Township, Bradford County, Pa.; Rescind Date: August 28, 2012.

30. EOG Resources, Inc., Pad ID: Kingsley 7V Pad, ABR-201008106, Springfield Township, Bradford County, Pa.; Rescind Date: August 28, 2012.

31. EOG Resources, Inc., Pad ID: Lee 4H, ABR-201008105, Springfield Township, Bradford County, Pa.; Rescind Date: August 28, 2012.

32. EOG Resources, Inc., Pad ID: LIDDELL 1H, ABR-20100157, Springfield Township, Bradford County, Pa.; Rescind Date: August 28, 2012.

33. EOG Resources, Inc., Pad ID: MacBride Pad, ABR-201008120, Smithfield Township, Bradford County, Pa.; Rescind Date: August 28, 2012.

34. EOG Resources, Inc., Pad ID: Manzek Land Pad, ABR-201008063, Ridgebury Township, Bradford County, Pa.; Rescind Date: August 28, 2012.

35. EOG Resources, Inc., Pad ID: MATTOCKS 1V, ABR-20100655, Springfield Township, Bradford County, Pa.; Rescind Date: August 28, 2012.

36. EOG Resources, Inc., Pad ID: McKEE Pad, ABR-201008092, Ridgebury Township, Bradford County, Pa.; Rescind Date: August 28, 2012.

37. EOG Resources, Inc., Pad ID: MULLALY Pad, ABR-201009008, Ridgebury Township, Bradford County, Pa.; Rescind Date: August 28, 2012.

38. EOG Resources, Inc., Pad ID: Otten Pad, ABR-201008047, Ridgebury Township, Bradford County, Pa.; Rescind Date: August 28, 2012.

39. EOG Resources, Inc., Pad ID: PHC 10V Pad, ABR-20090719, Lawrence Township, Clearfield County, Pa.; Rescind Date: August 28, 2012.

40. EOG Resources, Inc., Pad ID: PHC 11V Pad, ABR-20090720, Lawrence Township, Clearfield County, Pa.; Rescind Date: August 28, 2012.

41. EOG Resources, Inc., Pad ID: PHC 20V Pad, ABR-20100156, Lawrence Township, Clearfield County, Pa.; Rescind Date: August 28, 2012.

42. EOG Resources, Inc., Pad ID: PHC 21V Pad, ABR-20100427, Lawrence Township, Clearfield County, Pa.; Rescind Date: August 28, 2012.

43. EOG Resources, Inc., Pad ID: PHC 23H/24H, ABR-20090917.1, Lawrence Township, Clearfield County, Pa.; Rescind Date: August 28, 2012.

44. EOG Resources, Inc., Pad ID: PHC 28H/29H, ABR-20090918.1, Lawrence Township, Clearfield County, Pa.; Rescind Date: August 28, 2012.

45. EOG Resources, Inc., Pad ID: PHC 3 Pad, ABR-20090424, Lawrence Township, Clearfield County, Pa.; Rescind Date: August 28, 2012.

46. EOG Resources, Inc., Pad ID: PHC 4H, ABR-20090501, Lawrence Township, Clearfield County, Pa.; Rescind Date: August 28, 2012.

47. EOG Resources, Inc., Pad ID: PHC 5H, ABR-20090502, Lawrence Township, Clearfield County, Pa.; Rescind Date: August 28, 2012.

48. EOG Resources, Inc., Pad ID: PHC 6H, ABR-20090721, Lawrence Township, Clearfield County, Pa.; Rescind Date: August 28, 2012.

49. EOG Resources, Inc., Pad ID: PHC 7H, ABR-20090722, Lawrence Township, Clearfield County, Pa.; Rescind Date: August 28, 2012.

50. EOG Resources, Inc., Pad ID: PHC 8H, ABR-20090723, Lawrence Township, Clearfield County, Pa.; Rescind Date: August 28, 2012.

51. EOG Resources, Inc., Pad ID: PHC 9H, ABR-20090503, Lawrence Township, Clearfield County, Pa.; Rescind Date: August 28, 2012.

52. EOG Resources, Inc., Pad ID: PHC Pad A, ABR-201000353, Lawrence Township, Clearfield County, Pa.; Rescind Date: August 28, 2012.

53. EOG Resources, Inc., Pad ID: PHC Pad AA, ABR-201110027, Goshen Township, Clearfield County, Pa.; Rescind Date: August 28, 2012.

54. EOG Resources, Inc., Pad ID: PHC Pad B, ABR-20100352, Lawrence Township, Clearfield County, Pa.; Rescind Date: August 28, 2012.

55. EOG Resources, Inc., Pad ID: PHC Pad Q, ABR-20100551, Lawrence Township, Clearfield County, Pa.; Rescind Date: August 28, 2012.

56. EOG Resources, Inc., Pad ID: PHC Pad R, ABR-20100690, Lawrence Township, Clearfield County, Pa.; Rescind Date: August 28, 2012.

57. EOG Resources, Inc., Pad ID: PHC Pad S, ABR-201009023, Lawrence Township, Clearfield County, Pa.; Rescind Date: August 28, 2012.

58. EOG Resources, Inc., Pad ID: PHC Pad T, ABR-201009039, Lawrence Township, Clearfield County, Pa.; Rescind Date: August 28, 2012.

59. EOG Resources, Inc., Pad ID: PHC Pad U, ABR-20100644, Lawrence Township, Clearfield County, Pa.; Rescind Date: August 28, 2012.

60. EOG Resources, Inc., Pad ID: PHC Pad Z, ABR-201103024, Lawrence Township, Clearfield County, Pa.; Rescind Date: August 28, 2012.

61. EOG Resources, Inc., Pad ID: PPHC Pad B, ABR-201103023, Lawrence Township, Clearfield County, Pa.; Rescind Date: August 28, 2012.

62. EOG Resources, Inc., Pad ID: ROBBINS Pad, ABR-201009005, Springfield Township, Bradford County, Pa.; Rescind Date: August 28, 2012.

63. EOG Resources, Inc., Pad ID: ROGERS 1H, ABR-20100512, Springfield Township, Bradford County, Pa.; Rescind Date: August 28, 2012.

64. EOG Resources, Inc., Pad ID: SG Pad P, ABR-201008035, Jones Township, Elk County, Pa.; Rescind Date: August 28, 2012.

65. EOG Resources, Inc., Pad ID: SGL 90A Pad, ABR-201008049, Lawrence Township, Clearfield County, Pa.; Rescind Date: August 28, 2012.

66. EOG Resources, Inc., Pad ID: SGL 90D Pad, ABR-201103021, Lawrence Township, Clearfield County, Pa.; Rescind Date: August 28, 2012.

67. EOG Resources, Inc., Pad ID: SGL 90F Pad, ABR-201011026, Lawrence Township, Clearfield County, Pa.; Rescind Date: August 28, 2012.

68. EOG Resources, Inc., Pad ID: SGL 94 Pad A, ABR-201009030, Lawrence Township, Clearfield County, Pa.; Rescind Date: August 28, 2012.

69. EOG Resources, Inc., Pad ID: SGL 94C Pad, ABR-201203008, Lawrence Township, Clearfield County, Pa.; Rescind Date: August 28, 2012.

70. EOG Resources, Inc., Pad ID: SGL 94D Pad, ABR-201203003, Lawrence Township, Clearfield County, Pa.; Rescind Date: August 28, 2012.

71. EOG Resources, Inc., Pad ID: SUTHERLAND CHEVROLET 1H, ABR-201011076, Lawrence Township, Clearfield County, Pa.; Rescind Date: August 28, 2012.

72. EOG Resources, Inc., Pad ID: W TYLER Pad, ABR-201008154, Springfield Township, Bradford County, Pa.; Rescind Date: August 28, 2012.

73. EOG Resources, Inc., Pad ID: WATSON Pad, ABR-201008154, Springfield Township, Bradford County, Pa.; Rescind Date: August 28, 2012.

74. EOG Resources, Inc., Pad ID: WOOD 1H Pad, ABR-201008046, Ridgebury Township, Bradford County, Pa.; Rescind Date: August 28, 2012.

75. EOG Resources, Inc., Pad ID: Ward M 1H, ABR-20090421.1, Springfield Township, Bradford County, Pa.; Rescind Date: August 28, 2012.

Authority: Pub. L. 91-575, 84 Stat. 1509 et seq., 18 CFR parts 806, 807, and 808.

Dated: September 14, 2012.
Stephanie L. Richardson,
Secretary to the Commission.

[FR Doc. 2012-23659 Filed 9-25-12; 8:45 am]

BILLING CODE 7040-01-P